DEPARTMENT OF DEFENSE

Office of the Secretary

[Transmittal Nos. 14-13]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-13 with attached transmittal, policy justification, and Sensitivity of Technology.

Dated: May 12, 2014.
Aaron Siegel,
Alternate OSD Federal Register Liaison Officer, Department of Defense.

BILLING CODE 5001-06-P

BILLING CODE 5001-06-C

Transmittal No. 14-13

Notice of Proposed Issuance of Letter of Offer Pursuant to Section 36(b)(1) of the Arms Export Control Act, as amended

(i) Prospective Purchaser: Belgium

(ii) Total Estimated Value:

Major Defense Equipment* | $7 million.
OTHER | $106 million.
TOTAL | $113 million

(iii) Description and Quantity or Quantities of Articles or Services under Consideration for Purchase: Upgrade F-16A/B Block 15 Mid Life Upgrade (MLU) aircraft with Operational Flight Program (OFP) tapes S1, M5 and M6. Upgrade includes: 69 LN-260 Embedded Global Positioning System-Inertial Navigation Systems (GPS-INS), 8 Remote Operated Video Enhanced Receivers IV (ROVER IV), 62 AN/APX-125 Transceivers (AN/APX-125 Air Identification Friend of Foe Radios), 32 KIV-78s, 1 Joint Mission Planning System (JMPS), 4 BRU-61/A Carriage Systems, and 43 AN/ARC-210(V) RT-1990(C) Ultra High Frequency/Very High Frequency (UHF/VHF) Receiver Transmitters. Also included are spare and repair parts, support equipment, repair and return services, software development/integration, test and equipment, personnel training and training equipment, publications and technical data, U.S. Government and contractor technical services, and other related elements of logistics and program support.

(iv) Military Department: Air Force (QRS)

(v) Prior Related Cases: FMS case QBA-$81M-17Dec04

(vi) Sales Commission, Fee, etc., Paid, Offered, or Agreed to be Paid: None.

(vii) Sensitivity of Technology: See Attached Annex.

(viii) Date Report Delivered to Congress: May 8, 2014

* As defined in Section 47(6) of the Arms Export Control Act.

POLICY JUSTIFICATION

Belgium—F-16A/B Block 15 Aircraft Mid Life Upgrade

The Government of Belgium has requested a possible sale to upgrade its F-16A/B Block 15 Mid Life Upgrade (MLU) aircraft with Operational Flight Program (OFP) tapes S1, M5 and M6. Upgrade includes: 69 LN-260 Embedded Global Positioning System-Inertial Navigation Systems (GPS-INS), 8 Remote Operated Video Enhanced Receivers IV (ROVER IV), 62 AN/APX-125 Transceivers (AN/APX-125 Air Identification Friend of Foe Radios), 32 KIV-78s, 1 Joint Mission Planning System (JMPS), 4 BRU-61/A Carriage Systems, and 43 AN/ARC-210(V) RT-1990(C) Ultra High Frequency/Very High Frequency (UHF/VHF) Receiver Transmitters. Also included are spare and repair parts, support equipment, repair and return services, software development/integration, test and equipment, personnel training and training equipment, publications and technical data, U.S. Government and contractor technical services, and other related elements of logistics and program support. The estimated cost is $113 million.

The proposed sale will contribute to the foreign policy and national security of the United States by helping to improve the security of a NATO ally. The proposed sale of equipment and support for Belgium's F-16s will support its self-defense needs and enhance the interoperability of these aircraft with those of the United States and other NATO nations.

The proposed sale will support the Belgian Air Force's (BAF) efforts to equip, upgrade, and utilize its F-16A/B MLU aircraft. The BAF will have no difficulty integrating these upgraded platforms into its armed forces.

The proposed sale of this equipment and support will not alter the basic military balance in the region.

The principal contractor will be Lockheed Martin Missile and Fire Control in Orlando, Florida. There are no known offset agreements proposed in connection with this potential sale.

Implementation of this proposed sale will not require the assignment of any additional U.S. Government or contractor representatives to Belgium.

There will be no adverse impact on U.S. defense readiness as a result of this proposed sale.

Transmittal No. 14-13

Notice of Proposed Issuance of Letter of Offer Pursuant to Section 36(b)(1) of the Arms Export Control Act, as amended

Annex—Item No. vii

(vii) Sensitivity of Technology

1. The LN-260 Embedded Global Positioning System-Inertial Navigation System (GPS-INS) is a sensor that combines GPS and inertial sensor inputs to provide accurate location information for navigation and targeting. The EGI LN-260 is Unclassified. The GPS crypto variable keys needed for highest GPS accuracy are classified up to Secret.

2. The Remote Operated Video Enhanced Receiver IV (ROVER) is a terminal that provides a capability to receive real-time surveillance and reconnaissance videos from airborne platforms. The hardware and software are Unclassified.

3. The AN/APX-125 (Transceiver, AN/APX-113 Air Identification Friend or Foe) is a system that is IFF Mark XIIA compliant and is capable of transmitting and interrogating Mode 5. It is Unclassified unless/until Mode 4 and/or Mode 5 operational evaluator parameters are loaded into the equipment. Classified elements of the IFF system include software object code, operating characteristics, parameters, and technical data.

4. The KIV-78 (COMSEC Device, Controlled Cryptographic Item (CCI)) crypto computer provides COMSEC to the Identification Friend or Foe (IFF) combined transponder interrogator system. It is Unclassified unless Mode 4/5 operational evaluator parameters and/or classified keying material are loaded into the equipment.

5. The Joint Mission Planning System (JMPS) is a multi-platform based mission planning system. JMPS hardware is Unclassified. The software is classified up to Secret.

6. The BRU-61/A carriage system consists of a four-place rack with a self-contained pneumatic charging and accumulator section. Four ejector assemblies hold the individual weapons. Internal avionics and wire harnesses connect the carriage system to the aircraft and to the individual weapons. The carriage avionics assembly provides the interface between the individual stores and the aircraft for targeting, GPS keys, alignment, fuze settings, and weapon release sequence information. The hardware is Unclassified.

7. The AN/ARC-210 RT-1990 Ultra High Frequency/Very High Frequency secure Radio with HAVE QUICK II and SATURN is a voice or data communications radio system that can operate in either normal, secure, and/or jam-resistant modes. Classified elements include operating characteristics, parameters, technical data, and keying material.

8. If a technologically advanced adversary were to obtain knowledge of the specific hardware and software elements, the information could be used to develop countermeasures that might reduce weapon system effectiveness or be used in the development of a system with similar advanced capabilities.

9. A determination has been made that the recipient country can provide the same degree of protection for the sensitive technology being released as the U.S. Government. This sale is necessary in furtherance of the U.S. foreign policy and national security objectives outlined in the Policy Justification.

10. All defense articles and services listed in this transmittal have been authorized for release and export to the Government of Belgium.

[FR Doc. 2014-11288 Filed 5-15-14; 8:45 am]

BILLING CODE 5001-06-P